DEPARTMENT OF HOUSING AND URBAN DEVELOPMENT

[Docket No. FR-7104-N-15; OMB Control No.: 2577-0302]

60-Day Notice of Proposed Information Collection: Housing Opportunity Through Modernization Act of 2016 (HOTMA): Public Housing Waiting List Data Collection Tool

AGENCY: Office of the Assistant Secretary for Public and Indian Housing (PIH), HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 14, 2025.

ADDRESSES: Interested persons are invited to submit comments regarding this proposal. Written comments and recommendations for the proposed information collection can be sent within 60 days of publication of this notice to www.regulations.gov by searching for the Docket Number of this notice and following the prompts. Interested persons are also invited to submit comments and recommendations via post. Comments and recommendations should be postmarked within 60 days of the publication of this notice, refer to the proposal by name and/or OMB Approval Number (located at the top of this notice), and be sent to: Eva Fulton, Department of Housing and Urban Development, 451 7th Street SW, Washington, DC 20410-5000.

FOR FURTHER INFORMATION CONTACT: Eva Fulton, U.S. Department of Housing and Urban Development, 451 7th Street SW, Washington, DC 20410, email Eva Fulton at PIH-PRAPublicComments@hud.gov, telephone (202) 402-5847. This is not a toll-free number. HUD welcomes and is prepared to receive calls from individuals who are deaf or hard of hearing, as well as individuals with speech or communication disabilities. To learn more about how to make an accessible telephone call, please visit: https://www.fcc.gov/consumers/guides/telecommunications-relay-service-trs.

Copies of available documents submitted to OMB may be obtained from Ms. Fulton.

SUPPLEMENTARY INFORMATION: This notice informs the public that HUD is seeking approval from OMB for the information collection described in Section A.

A. Overview of Information Collection

Title of Information Collection: Housing Opportunity Through Modernization Act of 2016 (HOTMA): Public Housing Waiting List Data Collection Tool.

OMB Control Number: 2577-0302.

Type of Request: Revision of currently approved collection.

Form Number: None.

Description of the need for the information and proposed use: This collection of information implements a statutory requirement made by Section 103 of HOTMA, which was signed into law on July 29, 2016 (Pub. L. 114-201, 130 Stat. 782). Section 103 of HOTMA amends section 16(a) of the United States Housing Act of 1937 (42 U.S.C. 1437n(a)) (“1937 Act”).

Section 103 of HOTMA requires public housing agencies (PHAs) to set new rent policies for over-income families residing in a dwelling unit of public housing after a two-year grace period has ended. Additionally, PHAs must submit an annual report on the number of over-income families residing in public housing and the number of families on the public housing waiting lists. Section 103 of HOTMA permits HUD to determine the format of these annual reports. HUD has elected to utilize income data already provided when possible, as this will result in no additional burden to the PHA.

Each PHA with a Public Housing program is required to submit the total number of families on their public housing waiting lists annually (starting with Calendar Year 2023 data) utilizing the electronic Public Housing Waiting List Data Collection Tool. PHAs will be allowed to use income data already provided by Form HUD-50058, under OMB approval number 2577-0083, which is submitted electronically in the Inventory Management System/PIH Information Center to satisfy the requirement to report the annual number of over-income families residing in public housing. Per the requirements of Section 103 of HOTMA, HUD will consolidate the data provided and publish this information annually in a publicly available report.

Annual Reporting Burden
Form No. | Form name | Number of respondents | Frequency | Total responses | Hours per response | Total hours | Cost per hour | Total cost
OMB 2577-0302 | Public Housing Waiting List Data Collection Tool | * 2,681 | 1 | 2,681 | 0.5 of an hr. (30 min) | 1,341 | ** $22.82 | $30,602
Totals |  | 2,681 | 1 | 2,681 | 0.5 of an hr. (30 min) | 1,341 | 22.82 | 30,602
* Based on Public Housing Dashboard data as of 7/1/2025.
** Bureau of Labor Statistics, U.S. Department of Labor, Occupational Outlook Handbook, Secretaries and Administrative Assistants, https://www.bls.gov/ooh/office-and-administrative-support/secretaries-and-administrative-assistants.htm.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comments in response to these questions.

C. Authority

Section 2 of the Paperwork Reduction Act of 1995, 44 U.S.C. 3507.

Laura Kunkel,
Acting Director, Office of Policy, Programs, and Legislative Initiatives.

[FR Doc. 2025-17747 Filed 9-12-25; 8:45 am]

BILLING CODE 4210-67-P